DEPARTMENT OF HOMELAND SECURITY

Coast Guard

33 CFR Part 165

[Docket No. USCG-2017-0738]

Safety Zones; Recurring Events in Captain of the Port Duluth Zone—Superior Man Triathlon

AGENCY: Coast Guard, DHS.

ACTION: Notice of enforcement of regulation.

SUMMARY: The Coast Guard will enforce the safety zone for the Superior Man Triathlon in Duluth, MN from 5:30 a.m. through 10 a.m. on August 27, 2017. This action is necessary to protect participants and spectators during the Superior Man Triathlon. During the enforcement period, entry into, transiting, or anchoring within the safety zone is prohibited unless authorized by the Captain of the Port Duluth or her designated on-scene representative.

DATES: The regulations in 33 CFR 165.943(b) will be enforced from 5:30 a.m. through 10 a.m. on August 27, 2017, for the Superior Man Triathlon safety zone, § 165.943(a)(8).

FOR FURTHER INFORMATION CONTACT: If you have questions on this notice of enforcement, call or email LT John Mack, Chief of Waterways Management, Coast Guard; telephone (218) 725-3818, email john.v.mack@uscg.mil.

SUPPLEMENTARY INFORMATION: The Coast Guard will enforce the safety zone for the annual Superior Man Triathlon in 33 CFR 165.943(a)(8) from 5:30 a.m. through 10 a.m. on August 27, 2017, on all waters of the Duluth Harbor Basin, Northern Section, including the Duluth entry encompassed in an imaginary line beginning at point 46°46′36.12″ N. 092°06′06.99″ W., running southeast to 46°46′32.75″ N. 092°06′01.74″ W., running northeast to 46°46′45.92″ N. 092°05′45.18″ W., running northwest to 46°46′49.47″ N. 092°05′49.35″ W. and finally running southwest to the starting point.

Entry into, transiting, or anchoring within the safety zone is prohibited unless authorized by the Captain of the Port Duluth or her designated on-scene representative. The Captain of the Port's designated on-scene representative may be contacted via VHF Channel 16 or via telephone at (218) 529-3100.

This document is issued under authority of 33 CFR 165.943 and 5 U.S.C. 552(a). In addition to this publication in the Federal Register, the Coast Guard will provide the maritime community with advance notification of the enforcement of this safety zone via Broadcast Notice to Mariners. The Captain of the Port Duluth or her on-scene representative may be contacted via VHF Channel 16 or via telephone at (218) 529-3100.

Dated: July 31, 2017.
E.E. Williams,
Commander, U.S. Coast Guard, Captain of the Port Duluth.

[FR Doc. 2017-16845 Filed 8-9-17; 8:45 am]

BILLING CODE 9110-04-P